DEPARTMENT OF THE INTERIOR

National Park Service

[NPS-WASO-NAGPRA-NPS0033142; PPWOCRADN0-PCU00RP14.R50000]

Notice of Intent To Repatriate Cultural Items: University of California, Berkeley; Berkeley, CA

AGENCY: National Park Service, Interior.

ACTION: Notice.

SUMMARY: The University of California, Berkeley, in consultation with the appropriate Indian Tribes or Native Hawaiian organizations, has determined that the cultural item listed in this notice meets the definition of a sacred object and object of cultural patrimony. Lineal descendants or representatives of any Indian Tribe or Native Hawaiian organization not identified in this notice that wish to claim this cultural item should submit a written request to the University of California, Berkeley. If no additional claimants come forward, transfer of control of the cultural item to the lineal descendants, Indian Tribes, or Native Hawaiian organizations stated in this notice may proceed.

DATES: Lineal descendants or representatives of any Indian Tribe or Native Hawaiian organization not identified in this notice that wish to claim this cultural item should submit a written request with information in support of the claim to the University of California, Berkeley at the address in this notice by January 18, 2022.

FOR FURTHER INFORMATION CONTACT: Dr. Thomas Torma, NAGPRA Liaison, University of California, Berkeley; Government and Community Relations, Office of the Chancellor; University of California, Berkeley; 200 California Hall, Room 215A, Berkeley, CA 94720, telephone (510) 672-5388, email t.torma@berkeley.edu.

SUPPLEMENTARY INFORMATION: Notice is here given in accordance with the Native American Graves Protection and Repatriation Act (NAGPRA), 25 U.S.C. 3005, of the intent to repatriate a cultural item under the control of the University of California, Berkeley; Berkeley, CA, that meets the definition of a sacred object and object of cultural patrimony under 25 U.S.C. 3001.

This notice is published as part of the National Park Service's administrative responsibilities under NAGPRA, 25 U.S.C. 3003(d)(3). The determinations in this notice are the sole responsibility of the museum, institution, or Federal agency that has control of the Native American cultural item. The National Park Service is not responsible for the determinations in this notice.

History and Description of the Cultural Item

In 1904, one cultural item was removed from Valley Center in San Diego County, CA. The object in question is a basket that was transferred to the University of California, Berkeley (Berkeley) by Philip Stedman Sparkman. Sparkman ran a general store in Valley Center, which is located a short distance from the Rincon Reservation. It came to Berkeley as part of a package that was sent to Kroeber in August or September of 1904 and was accessioned in 1905. While there is no information in the letter accompanying the package about how Sparkman came to have the basket, some language in his letters to Kroeber suggests that he did not pay for it.

The item does not appear to have left the museum since it was accessioned in 1905. The one sacred object and object of cultural patrimony is a basket.

The one cultural item listed above is culturally affiliated with the Rincon Band of Luiseno Mission Indians of Rincon Reservation, California. This affiliation is supported by museum records, ethnographic sources, historical sources and newspapers, oral tradition, and other information provided through consultation with tribal representatives.

Determinations Made by the University of California, Berkeley

Officials of the University of California, Berkeley have determined that:

• Pursuant to 25 U.S.C. 3001(3)(C), the one cultural item described above is a specific ceremonial object needed by traditional Native American religious leaders for the practice of traditional Native American religions by their present-day adherents.

• Pursuant to 25 U.S.C. 3001(3)(D), the one cultural item described above has ongoing historical, traditional, or cultural importance central to the Native American group or culture itself, rather than property owned by an individual.

• Pursuant to 25 U.S.C. 3001(2), there is a relationship of shared group identity that can be reasonably traced between the sacred object and object of cultural patrimony and the Rincon Band of Luiseno Mission Indians of Rincon Reservation, California.

Additional Requestors and Disposition

Lineal descendants or representatives of any Indian Tribe or Native Hawaiian organization not identified in this notice that wish to claim this cultural item should submit a written request with information in support of the claim to Dr. Thomas Torma, NAGPRA Liaison, University of California, Berkeley; Government and Community Relations, Office of the Chancellor; University of California, Berkeley; 200 California Hall, Room 215A, Berkeley, CA 94720, telephone (510) 672-5388, email t.torma@berkeley.edu, by January 18, 2022. After that date, if no additional claimants have come forward, transfer of control of the sacred object and object of cultural patrimony to the Rincon Band of Luiseno Mission Indians of Rincon Reservation, California may proceed.

The University of California, Berkeley is responsible for notifying the Rincon Band of Luiseno Mission Indians of Rincon Reservation, California that this notice has been published.

Dated: December 10, 2021.
Melanie O'Brien,
Manager, National NAGPRA Program.

[FR Doc. 2021-27359 Filed 12-16-21; 8:45 am]

BILLING CODE 4312-52-P